DEPARTMENT OF TRANSPORTATION

Federal Aviation Administration

14 CFR Part 97

[Docket No. 30369; Amdt. No. 3059]

Standard Instrument Approach Procedures; Miscellaneous Amendments

AGENCY: Federal Aviation Administration (FAA), DOT.

ACTION: Final rule.

SUMMARY: This amendment establishes, amends, suspends, or revokes Standard Instrument Approach Procedures (SIAPs) for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: This rule is effective May 30, 2003. The compliance date for each SIAP is specified in the amendatory provisions.

The incorporation by reference of certain publications listed in the regulations is approved by the Director of the Federal Register as of May 30, 2003.

ADDRESSES: Availability of matters incorporated by reference in the amendment is as follows:

For examination—1. FAA Rules Docket, FAA Headquarters Building, 800 Independence Avenue, SW., Washington, DC 20591;

2. The FAA Regional Office of the region in which the affected airport is located;

3. The Flight Inspection Area Office which originated the SIAP; or,

4. The Office of Federal Register, 800 North Capitol Street, NW., Suite 700, Washington, DC.

For Purchase—Individual SIAP copies may be obtained from:

1. FAA Public Inquiry Center (APA-200), FAA Headquarters Building, 800 Independence Avenue, SW., Washington, DC 20591 or

2. The FAA Regional Office of the region in which the affected airport is located.

By Subscription—Copies of all SIAPs, mailed once every 2 weeks, are for sale by the Superintendent of Documents, U.S. Government Printing Office, Washington, DC 20402.

FOR FURTHER INFORMATION CONTACT: Donald P. Pate, Flight Procedure Standards Branch (AMCAFS-420), Flight Technologies and Programs Division, Flight Standards Service, Federal Aviation Administration, Mike Monroney Aeronautical Center, 6500 South MacArthur Blvd., Oklahoma City, OK. 73169 (Mail Address: P.O. Box 25082 Oklahoma City, OK. 73125) telephone: (405) 9554-4164.

SUPPLEMENTARY INFORMATION: This amendment to part 97 of the Federal Aviation Regulations (14 CFR part 97) establishes, amends, suspends, or revokes Standard Instrument Approach Procedures (SIAPs). The complete regulatory description of each SIAP is contained in official FAA form documents which are incorporated by reference in this amendment under 5 U.S.C. 552(a), 1 CFR part 51, and § 97.20 of the Federal Aviation Regulations (FAR). The applicable FAA Forms are identified as FAA Forms 8260-3, 8260-4, and 8260-5. Materials incorporated by reference are available for examination or purchase as stated above.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. The provisions of this amendment state the affected CFR (and FAR) sections, with the types and effective dates of the SIAPs. This amendment also identifies the airport, its location, the procedure identification and the amendment number.

The Rule

This amendment to part 97 is effective upon publication of each separate SIAP as contained in the transmittal. Some SIAP amendments may have been previously issued by the FAA in a National Flight Data Center (NFDC) Notice to Airmen (NOTAM) as an emergency action of immediate flight safety relating directly to published aeronautical charts. The circumstances which created the need for some SIAP amendments may require making them effective in less than 30 days. For the remaining SIAPs, an effective date at least 30 days after publication is provided.

Further, the SIAPs contained in this amendment are based on the criteria contained in the U.S. Standard for Terminal Instrument Procedures (TERPS). In developing these SIAPs, the TERPS criteria were applied to the conditions existing or anticipated at the affected airports. Because of the close and immediate relationship between these SIAPs and safety in air commerce, I find that notice and public procedure before adopting these SIAPs are impracticable and contrary to the public interest and, where applicable, that good cause exists for making some SIAPs effective in less than 30 days.

Conclusion

The FAA has determined that this regulation only involves an established body of technical regulations for which frequent and routine amendments are necessary to keep them operationally current. It, therefore—(1) Is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and navigation (Air).

Issued in Washington, DC on May 23, 2003.
James J. Ballough,
Director, Flight Standards Service.

Adoption of the Amendment

Accordingly, pursuant to the authority delegated to me, part 97 of the Federal Aviation regulations (14 CFR part 97) is amended by establishing, amending suspending, or revoking Standard Instrument Approach Procedures, effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

§§ 97.23, 97.25, 97.27, 97.29, 97.31, 97.33, and 97.35 [Amended]

By amending: § 97.23 VOR, VOR/DME, VOR or TACAN, and VOR/DME or TACAN; § 97.25 LOC, LOC/DME, LDA, LDA/DME, SDF, SDF/DME; § 97.27 NDB, NDG/DME; § 97.29 ILS, ILS/DME, ISMLS, MLS, MLS/DME, MLS/RNAV; § 97.31 RADRA SIAPs; § 97.33 RNAV SIAPs; and § 97.35 COPTER SIAPs, identified as follows:

Effective July 10, 2003

Anchorage, AK, Ted Stevens Anchorage Intl, RNAV (GPS) RWY 6L, Orig-A

Anchorage, AK, Ted Stevens Anchorage Intl, RNAV (GPS) RWY 6R, Orig-A

Atqasuk, AK, Atqasuk Edward Burnell Sr Memorial, RNAV (GPS) RWY 6, Orig-A

Atqasuk, AK, Atqasuk Edward Burnell Sr Memorial, RNAV (GPS) RWY 24, Orig-A

Bethel, AK, Bethel, RNAV (GPS) RWY 18, Orig-B

Bethel, AK, Bethel, RNAV (GPS) RWY 36, Orig-B

Fairbanks, AK, Fairbanks Intl, RNAV (GSP) Y RWY 1L, Orig-A

Fairbanks, AK, Fairbanks Intl, RNAV (GPS) Y RWY 19R, Orig-A

Huslia, AK, Huslia, RNAV (GPS) RWY 3, Orig-A

Huslia, AK, Huslia, RNAV (GPS) RWY 21, Orig-A

Mena, AR, Mena Intermountain Muni, RNAV (GPS) RWY 17, Orig

Mena, AR Mena Intermountain Muni, GPS RWY 17, Amdt 1, CANCELLED

Window Rock, AZ, Window Rock, VOR/DME-A, Orig-C

Window rock, AZ, Window Rock, RNAV (GPS)-B, Orig

Window Rock, AZ, Window Rock, RNAV (GPS) RWY 2, Orig

Window Rock, AZ, Widow Rock, VOR/DME RNAV OR GPS RWY 2, Amdt 1A, CANCELLED

Marina, CA, Marina Muni, VOR/DME RWY 29, Orig

La Junta, CO, La Junta Muni, RNAV (GPS) RWY 8, Orig

La Junta, CO, La Junta Muni, RNAV (GPS) RWY 26, Orig

Windsor Locks, CT, Bradley Intl, NDB RWY 6, Amdt 29

Windsor Locks, CT, Bradley Intl, ILS RWY 6, Amdt 35

Windsor Locks, CT, Bradley Intl, ILS RWY 24, Amdt 10

Windsor Locks, CT, Bradley Intl, ILS RWY 33, Amdt 8

Windsor Locks, CT, Bradley Intl, RNAV (GPS) Y RWY 6, Orig

Windsor Locks, CT, Bradley Intl, RNAV (GPS) Z RWY 6, Orig

Windsor Locks, CT, Bradley Intl, RNAV (GPS) RWY 15, Orig

Windsor Locks, CT, Bradley Intl, RNAV (GPS) RWY 24, Orig

Windsor Locks, CT, Bradley Intl, RNAV (GPS) RWY 33, Orig

Windsor Locks, CT, Bradley Intl, GPS RWY 15, Amdt 3a CANCELLED

Windsor Locks, CT, Bradley Intl, COPTER ILS 058, Amdt 2A, CANCELLED

Yap Island, FM, Yap Intl, NDB RWY 7, Amdt 2

Yap Island, FM, Yap Intl, NDB/DME RWY 7, Amdt 2

Yap Island, FM, Yap Intl, NDB/RWY 25, Orig

Yap Island, FM, Yap Intl, NDB/DME RWY 25, Orig

Brunswick, GA, Malcom McKinnon, VOR RWY 4, Amdt 16

Brunswick, GA, Malcom McKinnon, NDB RWY 4, Amdt 1

Brunswick, GA, Malcolm McKinnon, NDB RWY 22, Amdt 1

Hinesville, GA, Liberty County, NDB-A, Admt 3

Hinesville, GA, Liberty County, RNAV (GPS) RWY 32, Orig

Hinesville, GA, Liberty County, GPS RWY 32, Orig, CANCELLED

Savannah, GA, Savannah/Hilton Head Intl, VOR OR TACAN OR GPS RWY 27, Amdt 15D, CANCELLED

Savannah, GA, Savannah/Hilton Head Intl, ILS RWY 9, Amdt 26

Savannah, GA, Savannah/Hilton Head Intl, ILS RWY 36, Amdt 7

Savannah, GA, Savannah/Hilton Head Intl, NDB RWY 9, Amdt 22

Savannah, GA, Savannah/Hilton Head Intl, MLS RWY 27, Amdt 1

Statesboro, GA, Statesboro-Bulloch County, ILS RWY 32, Amdt 1

Statesboro, GA, Statesboro-Bulloch County, NDB RWY 32, Amdt 6

Chicago/Aurora, IL, Aurora Muni, VOR/DME RNAV RWY 27, Amdt 1

Chicago/Aurora, IL, Aurora Muni, ILS RWY 9, Amdt 2

Chicago/Aurora, IL, Aurora Muni, RNAV (GPS) RWY 9, Orig

Chicago/Aurora, IL, Aurora Muni, RNAV (GPS) RWY 27, Orig

Moundridge, KS, Moundridge Muni, RNAV (GPS) RWY 17, Orig

Moundridge, KS, Moundridge Muni, RNAV (GPS) RWY 35, Orig

Bastrop, LA, Morehouse Memorial, VOR/DME-A, Amdt 9

Bastrop, LA, Morehouse Memorial, NDB RWY 34, Amdt 6

Bastrop, LA, Morehouse Memorial, RNAV (GPS) RWY 16, Orig

Bastrop, LA, Morehouse Memorial, GPS RWY 16, Orig, CANCELLED

Baudette, MN, Baudette Intl, RNAV (GPS) RWY 12, Orig-A

Baudette, MN, Baudette Intl, RNAV (GPS) RWY 30, Orig-A

Pedrictown, NJ, Spitfire Aerodrome, RNAV (GPS) RWY 7, Orig

Pedrictown, NJ, Spitfire Aerodrome, RNAV (GPS) RWY 25, Orig

Durant, OK, Eaker Field, VOR/DME RWY 17, Orig

Durant, OK, Eaker Field, VOR/DME RWY 35, Amdt 6

Durant, OK, Eaker Field, NDB RWY 35, Orig

Durant, OK, Eaker Field, RNAV (GPS) RWY 17, Orig

Durant, OK, Eaker Field, RNAV (GPS) RWY 35, Orig

Durant, OK, Eaker Field, GPS RWY 35, Orig-A, CANCELLED

Babelthuap Island, PS, Babelthuap/Koror, RNAV (GPS) RWY 9, Orig

Babelthuap Island, PS, Babelthuap/Koror, RNAV (GPS) RWY 27, Orig

Babelthuap Island, PW, Babelthuap/Koror, GPS RWY 9, AMDT 1B (CANCELLED)

Babelthuap Island, PW, Babelthuap/Koror, GPS RWY 27, AMDT 1B (CANCELLED)

Providence, RI, Theodore Francis Green State, VOR RWY 34, Amdt 4C

Providence, RI, Theodore Francis Green State, VOR/DME RWY 23L, Amdt 6E

Providence, RI, Theodore Francis Green State, ILS RWY 5R, Amdt 18

Providence, RI, Theodore Francis Green State, ILS RWY 23L, Amdt 5

Providence, RI, Theodore Francis Green State, ILS RWY 34, Amdt 10

Providence, RI, Theodore Francis Green State, RNAV (GPS) Y RWY 5R, Orig

Providence, RI, Theodore Francis Green State, RNAV (GPS) Z RWY 5R, Orig

Providence, RI, Theodore Francis Green State, RNAV (GPS) RWY 16, Orig

Providence, RI, Theodore Francis Green State, RNAV (GPS) RWY 23L, Orig

Providence, RI, Theodore Francis Green State, RNAV (GPS) RWY 34, Orig

Providence, RI, Theodore Francis Green State, GPS RWY 16, Orig-B, CANCELLED

Beaufort, SC, Beaufort County, RNAV (GPS) RWY 7, Orig

Beaufort, SC, Beaufort County, RNAV (GPS) RWY 25, Orig.

Beaufort, SC, Beaufort County, GPS RWY 24, Orig-A CANCELLED

Hilton Head Island, SC, Hilton Head, LOC/DME RWY 21, Amdt 3

Houston, TX, Houston-Southwest, RNAV (GPS) RWY 9, Amdt 1

Houston, TX, Houston-Southwest, VOR/DME RNAV RWY 9, Amdt 2, CANCELLED

Houston, TX, Houston-Southwest, VOR/DME RNAV RWY 27, Amdt 3. CANCELLED

Ozona, TX, Ozona Muni, RNAV (GPS) RWY 16, Orig

Ozona, TX, Ozona Muni, GPS RWY, 16, CANCELLED

Snyder, TX, Winston Field, NDB RWY 35, Amit 2

Snyder, TX, Winston Field, RNAV (GPS) RWY 35, Orig

Yoakum, TX, Yoakum, Muni, NDB RWY 31, Amdt 3

Yoakum, TX, Yoakum, Muni, RNAV (GPS) RWY 31, Orig

Salt Lake, City, UT, Salt Lake City Muni 2, RNAV (GPS) RWY 34, Amdt 1

Wallops Island, VA, Wallops Flight Facility, VOR OR TACAN RWY 17, Amdt 6B

Wallops Island, VA, Wallops Flight Facility, RNAV (GPS) RWY 4, Orig

Wallops Island, VA, Wallops Flight Facility, RNAV (GPS) RWY 10, Orig

Wallops Island, VA, Wallops Flight Facility, RNAV (GPS) RWY 17, Orig

Wallops Island, VA, Wallops Flight Facility, RNAV (GPS) RWY 22, Orig

Wallops Island, VA, Wallops Flight Facility, RNAV (GPS) RWY 28, Orig

Parkersburg, WV, Wood County Airport-Gill Robb Wilson Field, ILS RWY 3, Amdt 12

Effective August 7, 2003

Clintonville, WI, Clintonville Muni, NDB RWY 32, Amdt 7

Effective September 4, 2003

Sioux Falls, SD, Joe Foss Field, VOR OR TACAN RWY 15, Amdt 21

Sioux Falls, SD, Joe Foss Field, NDB RWY 3, Amdt 24A

Sioux Falls, SD, Joe Foss Field, RNAV (GPS) RWY 3, Orig

Sioux Falls, SD, Joe Foss Field, RNAV (GPS) RWY 9, Orig

Sioux Falls, SD, Joe Foss Field, RNAV (GPS) RWY 15, Orig

Sioux Falls, SD, Joe Foss Field, RNAV (GPS) RWY 21, Orig

Sioux Falls, SD, Joe Foss Field, RNAV (GPS) RWY 27 Orig

Sioux Falls, SD, Joe Foss Field, RNAV (GPS) RWY 33, Orig

Sioux Falls, SD, Joe Foss Field, GPS RWY 33, Orig. CANCELLED

[FR Doc. 03-13542 Filed 5-30-03; 8:45 am]

BILLING CODE 4910-13-M